INTERNATIONAL TRADE COMMISSION

[Investigation No. 332-442]

U.S.-Chile FTA: Probable Economic Effects on the Economy as a Whole of Eliminating Tariffs on Certain Agricultural Products

AGENCY: International Trade Commission.

ACTION: Institution of investigation and invitation for written submissions.

SUMMARY: Following receipt of a request on June 19, 2002, from the United States Trade Representative (USTR), the Commission instituted investigation No. 332-442, U.S.-Chile FTA: Probable Economic Effects on the Economy as a Whole of Eliminating Tariffs on Certain Agricultural Products, under section 332(g) of the Tariff Act of 1930 (19 U.S.C. 1332(g)).

Background: As requested by USTR, the Commission will assess the probable economic effects on the economy as a whole of eliminating tariffs on certain agricultural products from Chile. A list of the products covered in this investigation may be obtained electronically form EDIS-ON-LINE, or from the Office of the Secretary at 202-205-2000. The Commission plans to submit its report by September 19, 2002. USTR indicated that portions of the report will be classified as “Confidential.”

EFFECTIVE DATE: July 2, 2002.

FOR FURTHER INFORMATION CONTACT: Industry-specific information may be obtained from Jonathan Coleman, Project Leader (202-205-3465 or JColeman@usitc.gov) or William Lipovsky, Chief Animal and Forest Products Branch (202-205-3330 or Lipovsky@usitc.gov), Office of Industries, U.S. International Trade Commission, Washington, DC, 20436. For information on the legal aspects of this investigation, contact William Gearhart of the Office of the General Counsel (202-205-3091 or wgearhart@usitc.gov). Hearing-impaired individuals are advised that information on this matter can be obtained by contacting the TDD terminal on (202) 205-1810. General information concerning the Commission may also be obtained by accessing its internet server (http://www.usitc.gov). The public record for this investigation may be viewed on the Commission's electronic docket (EDIS-ON-LINE) at http://dockets.usitc.gov/eol/public/.

Written Submissions: The Commission does not plan to hold a public hearing in connection with this investigation. However, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available in the Office of the Secretary of the Commission for inspection by interested parties. The Commission may include such confidential business information in the report it sends to USTR. To be assured of consideration by the Commission, written statements relating to the Commission's report should be submitted to the Commission at the earliest practical date and should be received no later than the close of business on July 19, 2002. All submissions should be addressed to the Secretary, United States International Trade Commission, 500 E Street SW., Washington, DC 20436. The Commission's rules do not authorize filing submissions with the Secretary by facsimile or electronic means. Persons with mobility impairments who will need special assistance in gaining access to the Commission should contact of the Office of the Secretary at 202-205-2000.

List of Subjects

Chile, tariffs, and trade.

Issued: July 2, 2002.
By order of the Commission.
Marilyn R. Abbott,
Secretary to the Commission.

[FR Doc. 02-17060 Filed 7-8-02; 8:45 am]

BILLING CODE 7020-02-P